DEPARTMENT OF ENERGY

Federal Energy Regulatory Commission

Combined Notice of Filings #1

Take notice that the Commission received the following electric rate filings:

Docket Numbers: ER16-1832-000.

Applicants: Midcontinent Independent System Operator, Inc.

Description: Midcontinent Independent System Operator, Inc. submits tariff filing per 35.19a(b): Refund Report (ER16-1832-000, 001, 002 and 003) to be effective N/A.

Filed Date: 8/17/17.

Accession Number: 20170817-5136.

Comments Due: 5 p.m. ET 9/7/17.

Docket Numbers: ER17-210-002.

Applicants: Midcontinent Independent System Operator, Inc.

Description: Midcontinent Independent System Operator, Inc. submits tariff filing per 35.19a(b): Refund Report (ER17-210-002 and 004) to be effective N/A.

Filed Date: 8/17/17.

Accession Number: 20170817-5135.

Comments Due: 5 p.m. ET 9/7/17.

Docket Numbers: ER17-2324-000.

Applicants: NSTAR Electric Company.

Description: Initial rate filing: LCC Services and Telemetering Services Agreements—RMLD to be effective 8/17/2017.

Filed Date: 8/18/17.

Accession Number: 20170818-5003.

Comments Due: 5 p.m. ET 9/8/17.

Docket Numbers: ER17-2325-000.

Applicants: Colonial Eagle Solar, LLC.

Description: Compliance filing: Order No. 819 Compliance Filing to be effective 10/18/2017.

Filed Date: 8/18/17.

Accession Number: 20170818-5030.

Comments Due: 5 p.m. ET 9/8/17.

Docket Numbers: ER17-2326-000.

Applicants: Conetoe II Solar, LLC.

Description: Compliance filing: Order No. 819 Compliance Filing to be effective 10/18/2017.

Filed Date: 8/18/17.

Accession Number: 20170818-5031.

Comments Due: 5 p.m. ET 9/8/17.

Docket Numbers: ER17-2327-000.

Applicants: New York Independent System Operator, Inc.

Description: § 205(d) Rate Filing: 205 filing re: cost recovery for regulated transmission facilities to be effective 10/18/2017.

Filed Date: 8/18/17.

Accession Number: 20170818-5034.

Comments Due: 5 p.m. ET 9/8/17.

Docket Numbers: ER17-2328-000.

Applicants: Duke Energy Kentucky, Inc.

Description: Compliance filing: Order No. 819 Compliance Filing to be effective 10/18/2017.

Filed Date: 8/18/17.

Accession Number: 20170818-5035.

Comments Due: 5 p.m. ET 9/8/17.

Docket Numbers: ER17-2329-000.

Applicants: Duke Energy Ohio, Inc.

Description: Compliance filing: Order No. 819 Compliance Filing to be effective 10/18/2017.

Filed Date: 8/18/17.

Accession Number: 20170818-5036.

Comments Due: 5 p.m. ET 9/8/17.

Docket Numbers: ER17-2330-000.

Applicants: Laurel Hill Wind Energy, LLC.

Description: Compliance filing: Order No. 819 Compliance Filing to be effective 10/18/2017.

Filed Date: 8/18/17.

Accession Number: 20170818-5038.

Comments Due: 5 p.m. ET 9/8/17.

Docket Numbers: ER17-2331-000.

Applicants: North Allegheny Wind, LLC.

Description: Compliance filing: Order No. 819 Compliance Filing to be effective 10/18/2017.

Filed Date: 8/18/17.

Accession Number: 20170818-5042.

Comments Due: 5 p.m. ET 9/8/17.

Docket Numbers: ER17-2332-000.

Applicants: PJM Interconnection, L.L.C.

Description: § 205(d) Rate Filing: Revisions to OATT Schedule RE: New Black Start Unit Revenue Requirements Process to be effective 11/16/2017.

Filed Date: 8/18/17.

Accession Number: 20170818-5044.

Comments Due: 5 p.m. ET 9/8/17.

Docket Numbers: ER17-2333-000.

Applicants: Duke Energy Beckjord Storage, LLC.

Description: Compliance filing: Order No. 819 Compliance Filing to be effective 10/18/2017.

Filed Date: 8/18/17.

Accession Number: 20170818-5059.

Comments Due: 5 p.m. ET 9/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2017.
Nathaniel J. Davis, Sr.,
Deputy Secretary.

[FR Doc. 2017-17949 Filed 8-23-17; 8:45 am]

BILLING CODE 6717-01-P